DEPARTMENT OF ENERGY

Energy Information Administration

Agency Information Collection Activities: Proposed Collection; Comment Request

AGENCY: Energy Information Administration (EIA), Department of Energy (DOE).

ACTION: Agency information collection activities: proposed collection; comment request.

SUMMARY: The EIA is soliciting comments on the proposed revision and three-year extension of the surveys included in the Coal Program Package. The surveys covered by this action are the Form EIA-1, “Weekly Coal Monitoring Report—General Industries and Blast Furnaces” (Standby); Form EIA-3, “Quarterly Coal Consumption Report—Manufacturing Plants;” Form EIA-3A, “Annual Coal Quality Report—Manufacturing Plants;” Form EIA-4, “Weekly Coal Monitoring Report—Coke Plants” (Standby); Form EIA-5, “Quarterly Coal Consumption Report—Coke Plants;” Form EIA-5A, “Annual Coal Quality Report—Coke Plants;” Form EIA-6, “Coal Distribution Report;” Form EIA-6 (Schedule Q), “Quarterly Coal Report” (Standby); Form EIA-7A, “Coal Production Report;” and Form EIA-20, “Weekly Telephone Survey of Coal Burning Utilities” (Standby). The Standby forms are designed to be utilized under certain conditions.

DATES: Comments must be filed on or before September 24, 2001. If you anticipate difficulty in submitting comments within that period, contact the person listed below as soon as possible.

ADDRESSES: Send comments to William Watson, Coal, Nuclear, and Renewables Division, EI-52, Forrestal Building, U.S. Department of Energy, Washington, DC 20585. Alternatively, Mr. Watson may be reached at william.watson@eia.doe.gov (e-mail), 202-287-1971 (telephone), or 202-287-1934 (FAX).

FOR FURTHER INFORMATION CONTACT: Requests for additional information or copies of the forms and instructions should be directed to William Watson at the address listed above.

SUPPLEMENTARY INFORMATION:

I. Background

II. Current Actions

III. Request for Comments

I. Background

The Federal Energy Administration Act of 1974 (Pub. L. No. 93-275, 15 U.S.C. 761 et seq.) and the DOE Organization Act (Pub. L. No. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) of the collections under Section 3507(a) of the Paperwork Reduction Act of 1995.

The coal surveys included in the Coal Program Package collect information on coal production, distribution, receipts, consumption, quality, stocks, and prices. This information is used to support public policy analyses of the coal industry and is published in various EIA publications, including the Coal Industry Annual, the Annual Energy Review, the Monthly Energy Review, and the Quarterly Coal Report. Respondents to the surveys include coal producers, coal distributors, and coal consumers.

II. Current Actions

The EIA will request a 3-year extension of the collection authority for each of the above-referenced surveys. Additionally, the EIA proposes the following changes affecting Form EIA-3, Form EIA-3A, Form EIA-5, Form EIA-5A, and Form EIA-7A.

Form EIA-3, “Quarterly Coal Consumption Report—Manufacturing Plants;” and Form EIA-3A, “Annual Coal Quality Report—Manufacturing Plants”

Currently, EIA surveys manufacturing plants to collect coal consumption and coal stocks data on a quarterly basis (Form EIA-3), and coal quality data and coal origin on an annual basis (Form EIA-3A). EIA proposes to eliminate the EIA-3A survey and instead modify the EIA-3 quarterly survey to include questions on coal quality and origin, but eliminate reporting the basis of coal quality data. EIA proposes to also add mode of coal transport to the EIA-3 quarterly survey. EIA believes that the proposed changes would make it easier for the respondents to complete the surveys.

EIA proposes to change the title of the EIA-3 survey form from “Quarterly Coal Consumption Report—Manufacturing Plants” to “Quarterly Coal Consumption and Quality Report, Manufacturing Plants.”

The instructions in Form EIA-3, in Section B, Who Must Submit, will be amended to state that synfuel facilities using coal as an input are among the facilities required to complete form EIA-3.

EIA proposes to delete the question asking for the basis for coal quality information, in section III. Basis of Coal Quality, now included on the EIA-3A form. EIA believes that the information is not needed because it is not published, disseminated on the internet, nor used within EIA for analysis.

Form EIA-5, “Quarterly Coal Consumption Report—Coke Plants;” and Form EIA-5A, “Annual Coal Quality Report—Coke Plants”

Currently, EIA surveys coke plants to collect consumption and stocks data for coal and production and stocks data for coke on a quarterly basis (Form EIA-5), and coal quality data and coal origin on an annual basis (Form EIA-5A). EIA proposes to eliminate the EIA-5A survey and to modify the EIA-5 quarterly survey to include questions on coal quality and origin, but eliminate reporting the basis of coal quality data. EIA proposes to also add mode of coal transport to the EIA-5 quarterly survey. EIA believes that the proposed changes would make it easier for the respondents to complete the surveys.

EIA proposes to delete the question asking for the basis for coal quality information, in section III. Basis of Coal Quality, now included on the EIA-5A form. EIA believes that the information is not needed because it is not published, disseminated on the internet, nor used within EIA for analysis.

Form EIA-7A, “Coal Production Report”

EIA proposes to add an additional data element to section J. Mining Location. EIA proposes to ask the respondents to identify the datum (geospatial referencing system) that was used in determining the latitude and longitude locations. EIA is proposing this change to meet OMB directives for standardizing geospatial data.

To help respondents, EIA proposes to add instructions on methods that can be used to determine the geographic location of coal mines and the datum of the location.

EIA also proposes to clarify section H. Disclosure of Information, Instructions for Completing Form EIA-7A. The instructions in section H will be modified to state that mine location (latitude and longitude) and datum will not be treated as confidential information. Currently, EIA releases other mine location information, such as State and county. EIA believes that the release of latitude and longitude locations and datums would not result in competitive harm to respondents.

III. Request for Comments

Prospective respondents and other interested parties should comment on the actions discussed in item II. The following guidelines are provided to assist in the preparation of responses. Please indicate to which form(s) your comments apply.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. Are the instructions and definitions clear and sufficient? If not, which instructions need clarification?

B. Can the information be submitted by the due date?

C. Public reporting burden for each of the surveys included in the Coal Program Package is shown below as an average hour(s) per response. The estimated burden includes the total time necessary to provide the requested information. In your opinion, how accurate is this estimate?

—Form EIA-1, “Weekly Coal Monitoring Report—General Industries and Blast Furnaces” (Standby); 1.0 hour per response (previous estimate was 1 hour)

—Form EIA-3, “Quarterly Coal Consumption Report—Manufacturing Plants;” 1 hour per response (previous estimate was .4 hours)

—EIA-3A, “Annual Coal Quality Report—Manufacturing Plants;” 0 hours per response (previous estimate was 1 hour) EIA is proposing elimination of Form EIA-3A.

—Form EIA-4, “Weekly Coal Monitoring Report—Coke Plants” (Standby); 1.0 hour per response (previous estimate was 1 hour)

—Form EIA-5, “Quarterly Coal Consumption Report—Coke Plants;” 1.5 hours per response (previous estimate was .9 hours)

—Form EIA-5A, “Annual Coal Quality Report—Coke Plants;” 0 hours per response (previous estimate was 1 hour) EIA is proposing elimination of Form EIA-5A.

—Form EIA-6, “Coal Distribution Report;” 5.0 hours per response (previous estimate was 5.0 hours)

—Form EIA-6 (Schedule Q), “Quarterly Coal Report” (Standby); 1 hour per response (previous estimate was 1 hour)

—Form EIA-7A, “Coal Production Report;” .75 hours per response (previous estimate was .8 hours)

—Form EIA-20, “Weekly Telephone Survey of Coal Burning Utilities” (Standby) 1 hour per response (previous estimate was 1 hour)

The Forms EIA-1, 4, 6 (Schedule Q), and 20 are Standby surveys. The above estimates reflect the anticipated burden per response in the event these surveys are implemented.

D. The agency estimates that the only cost to a respondent is for the time it will take to complete the collection. Will a respondent incur any start-up costs for reporting, or any recurring annual costs for operation, maintenance, and purchase of services associated with the information collection?

E. What additional actions could be taken to minimize the burden of this collection of information? Such actions may involve the use of automated, electronic, mechanical, or other technological collection techniques or other forms of information technology.

F. Does any other Federal, State, or local agency collect similar information? If so, specify the agency, the data element(s), and the methods of collection.

As a Potential User of the Information To Be Collected

A. Is the information useful at the levels of detail to be collected?

B. For what purpose(s) would the information be used? Be specific.

C. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. No. 104-13, 44 U.S.C. Chapter 35).

Issued in Washington, DC, July 19, 2001.
Stanley R. Freedman,
Acting Director, Statistics and Methods Group, Energy Information Administration.

[FR Doc. 01-18638 Filed 7-25-01; 8:45 am]

BILLING CODE 6450-01-P